DEPARTMENT OF THE INTERIOR

Fish and Wildlife Service

Availability of a Draft Environmental Assessment and Receipt of an Application for an Incidental Take Permit for a Multi-Phase Commercial and Residential Development, in Flagler County, Florida

AGENCY: Fish and Wildlife Service, Interior.

ACTION: Notice.

Palm Coast Blue Water International Corporation and Matanzas Shores Owners Association (Applicant), seek an incidental take permit (ITP) from the Fish and Wildlife Service (Service), pursuant to section 10(a)(1)(B) of the Endangered Species Act of 1973 (Act), as amended. The ITP would authorize the take of two families of the threatened Florida scrub-jay (Aphelocoma coerulescens) and the threatened eastern indigo snake (Drymarchon corais couperi) in Flagler County, Florida, for a period of twenty (20) years. The proposed taking is incidental to land clearing activities and development on a multi-phase project site (Project). The Project contains about 19.5 acres of occupied Florida scrub-jay habitat, and the potential exists for the Project to provide over 200 acres of habitat to the Eastern indigo snake. A description of the mitigation and minimization measures outlined in the Applicant's Habitat Conservation Plan (HCP) to address the effects of the Project to the protected species is described further in the SUPPLEMENTARY INFORMATION section below.

The Service also announces the availability of a draft environmental assessment (EA) and the HCP for the incidental take permit application. Copies of the EA and HCP may be obtained by making a request to the Regional Office (see ADDRESSES). Requests must be in writing to be processed. This notice also advises the public that the Service has made a preliminary determination that issuing the ITP is not a major Federal action significantly affecting the quality of the human environment within the meaning of section 102(2)(C) of the National Environmental Policy Act of 1969 (NEPA), as amended. The Finding of No Significant Impact (FONSI) is based on information contained in the EA and HCP. The final determination will be made no sooner than 60 days from the date of this notice. This notice is provided pursuant to section 10 of the Act and NEPA regulations (40 CFR 1506.6).

The Service specifically requests information, views, and opinions from the public via this Notice on the federal action, including the identification of any other aspects of the human environment not already identified in the Service's EA. Further, the Service specifically solicits information regarding the adequacy of the HCP as measured against the Service's ITP issuance criteria found in 50 CFR Parts 13 and 17.

If you wish to comment, you may submit comments by any one of several methods. Please reference permit number TE038885-0 in such comments. You may mail comments to the Service's Regional Office (see ADDRESSES). You may also comment via the internet to “david_dell@fws.gov”. Please submit comments over the internet as an ASCII file avoiding the use of special characters and any form of encryption. Please also include your name and return address in your internet message. If you do not receive a confirmation from the Service that we have received your internet message, contact us directly at either telephone number listed below (see FURTHER INFORMATION). Finally, you may hand deliver comments to either Service office listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

DATES: Written comments on the permit application, EA, and HCP should be sent to the Service's Regional Office (see ADDRESSES) and should be received on or before October 22, 2001.

ADDRESSES: Persons wishing to review the application, HCP, and EA may obtain a copy by writing the Service's Southeast Regional Office, Atlanta, Georgia. Documents will also be available for public inspection by appointment during normal business hours at the Regional Office, 1875 Century Boulevard, Suite 200, Atlanta, Georgia 30345 (Attn: Endangered Species Permits), or Field Supervisor, U.S. Fish and Wildlife Service, 6620 Southpoint Drive South, Suite 310, Jacksonville, Florida 32216-0912. Written data or comments concerning the application, EA, or HCP should be submitted to the Regional Office. Comments and requests for the documentation must be in writing to be processed. Please reference permit number TE038885-0 in such comments, or in requests of the documents discussed herein.

FOR FURTHER INFORMATION CONTACT: Mr. David Dell, Regional Permit Coordinator, (see ADDRESSES above), telephone: 404/679-7110; or Mr. Miles A. Meyer, Fish and Wildlife Biologist, Jacksonville Field Office, (see ADDRESSES above), telephone: 904/232-2580, extension 114.

SUPPLEMENTARY INFORMATION: The Florida scrub-jay is geographically isolated from other species of scrub-jays found in Mexico and the western United States. The Florida scrub-jay is found exclusively in peninsular Florida and is restricted to scrub habitat. The total estimated population is between 7,000 and 11,000 individuals. Due to habitat loss and degradation throughout the State of Florida, it has been estimated that the Florida scrub-jay population has been reduced by at least half in the last 100 years.

Historically, the eastern indigo snake occurred throughout Florida and into the coastal plain of Georgia, Alabama, and Mississippi. Georgia and Florida currently support the remaining, endemic populations of eastern indigo snake. Over most of its range, the eastern indigo snake frequents a diversity of habitat types such as pine flatwoods, scrubby flatwoods, xeric sandhill communities, tropical hardwood hammocks, edges of freshwater marshes, agricultural fields, coastal dunes and human altered habitats. Due to its relatively large home range, this snake is especially vulnerable to habitat loss, degradation, and fragmentation. The wide distribution and territory size requirements of the eastern indigo snake make evaluation of status and trends very difficult.

Surveys have indicated that two families of Florida scrub-jays (5 individuals) utilize habitat associated with the coastal scrub habitat on the Project site. Approximately 9.11 acres of occupied scrub-jay habitat are proposed to be impacted. Additionally, 41.1 acres of potential habitat for the eastern indigo snake are proposed for development. Eastern indigo snakes have not been observed on the project site. Construction of the Project's infrastructure and residential buildings will likely result in death of, or injury to, Florida scrub-jay and eastern indigo snake incidental to carrying out these otherwise lawful activities. Habitat alteration associated with property development will reduce the availability of habitat used for feeding, nesting, and shelter.

The draft EA considers the environmental consequences of two alternatives. The no action alternative may result in loss of habitat for the Florida scrub-jay and eastern indigo snake, and exposure of the Applicant under section 9 of the Act. The applicant's proposed action alternative is issuance of the ITP with on-site mitigation. The on-site preservation would restore and preserve 10.75 acres of unoccupied scrub-jay habitat and 15.95 acres of occupied scrub-jay habitat along the coastal dune east of the old SR A1A roadbed. This on-site habitat would remain suitable for any eastern indigo snakes in the Project area. The affirmative conservation measures outlined in the HCP to be employed to offset the anticipated level of incidental take to the protected species are the following:

1. The impacts associated with the proposed project include 9.11 acres of permanent impacts associated with infrastructure and lot development. To mitigate for the proposed impacts to occupied habitat the applicant will restore and preserve habitat within two areas of the project site. Approximately 10.75 acres of unoccupied scrub habitat and 15.95 acres of occupied habitat will be enhanced and preserved east of, and including, the old SR A1A roadbed. This amount provides mitigation at a ratio of 2.9:1 (2.9 acres restored for every one acre impacted). Management of the mitigation sites will be conducted on a regular basis by the applicant and funding will be provided by the applicant and homeowners association dues. After initial habitat restoration of the 27.1-acre on-site mitigation area, the property would be set apart through an easement, requiring preservation and management for Florida scrub-jays and eastern indigo snakes into perpetuity.

2. No construction activities would occur within 150 feet of an active Florida scrub-jay nest during the nesting season.

3. The HCP provides a funding mechanism for these mitigation measures. Funding will be provided by the applicant and the homeowners association dues.

As stated above, the Service has made a preliminary determination that the issuance of the ITP is not a major Federal action significantly affecting the quality of the human environment within the meaning of section 102(2)(C) of NEPA. This preliminary information may be revised due to public comment received in response to this notice and is based on information contained in the draft EA and HCP. An appropriate excerpt from the FONSI reflecting the Service's finding on the application is provided below:

Based on the analysis conducted by the Service, it has been determined that:

1. Issuance of an ITP would not have significant effects on the human environment in the project area.

2. The proposed take is incidental to an otherwise lawful activity.

3. The Applicant has ensured that adequate funding will be provided to implement the measures proposed in the submitted HCP.

4. Other than impacts to endangered and threatened species as outlined in the documentation of this decision, the indirect impacts which may result from issuance of the ITP are addressed by other regulations and statutes under the jurisdiction of other government entities. The validity of the Service's ITP is contingent upon the Applicant's compliance with the terms of the permit and all other laws and regulations under the control of State, local, and other Federal governmental entities.

The Service will also evaluate whether the issuance of a section 10(a)(1)(B) ITP complies with section 7 of the Act by conducting an intra-Service section 7 consultation. The results of the biological opinion, in combination with the above findings, will be used in the final analysis to determine whether or not to issue the ITP.

Dated: August 3, 2001.
J. Mitch King,
Acting Regional Director.

[FR Doc. 01-21273 Filed 8-22-01; 8:45 am]

BILLING CODE 4310-55-P